ENVIRONMENTAL PROTECTION AGENCY

[FRL-8462-5]

Science Advisory Board Staff Office; Notification of a Meeting of the Science Advisory Board

AGENCY: Environmental Protection Agency (EPA).

ACTION: Notice.

SUMMARY: The EPA Science Advisory Board (SAB) Staff Office announces a public face-to-face meeting of the chartered SAB to: (1) Discuss strategic research directions for the U.S. Environmental Protection Agency; (2) complete its discussions of science use in disaster response programs; (3) conduct a quality review of the draft SAB report Advisory on Factors Influencing Hypoxia in the Gulf of Mexico; and (4) conduct a quality review of the draft SAB report Review of EPA's Draft Evaluation of the Carcinogenicity of Ethylene Oxide: A Report of the U.S. EPA Science Advisory Board.

DATES: The meeting dates are Wednesday, October 3, 2007, from 8:30 a.m. to 5:30 p.m. through Friday, October 5, 2007, from 8:30 a.m. to not later than 2 p.m. (Eastern Time).

Location: The meeting will be held in Research Triangle Park, NC. The location will be announced on the SAB Web site as soon as possible.

FOR FURTHER INFORMATION CONTACT: Members of the public who wish to obtain additional information about this meeting may contact Dr. Angela Nugent by mail address given below; by telephone at (202) 343-9981; by fax at (202) 233-0643; or e-mail at: nugent.angela@epa.gov or by contacting Mr. Thomas O. Miller, Designated Federal Officer (DFO), by mail at the address given below; by telephone at (202) 343-9982; by fax at: (202) 233-0643; or e-mail at: miller.tom@epa.gov. The SAB mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: (a) SAB Quality Review of the Draft Committee Report Factors Influencing Hypoxia in the Gulf of Mexico. The Chartered Science Advisory Board will conduct a quality review of the draft report of its Hypoxia Advisory Panel at its meeting on October 3-5, 2007. Specific times will be provided in the meeting agenda that will be placed on the SAB Web site prior to the meeting (http://www.epa.gov/sab). EPA's Office of Water requested that the SAB develop a report that evaluates the state-of-the-science regarding the causes and extent of hypoxia in the Gulf of Mexico, as well as the scientific basis of possible management options in the Mississippi River Basin. In response to EPA's request, the SAB Staff Office formed the SAB Hypoxia Advisory Panel. That Panel held several meetings to discuss the issue and has now completed its draft report to the EPA Administrator. Federal Register notices were published announcing each of the Hypoxia Advisory Panel meetings (see 71 FR 8578-8580; 71 FR 45543-45544; 71 FR 66329-66330; 71 FR 55786-55787; 71 FR 59107 and 71 FR 77743-77744). Background on the Panel and this review is available on the SAB Web site at: http://www.epa.gov/sab/panels/hypoxia_adv_panel.htm.

(b) EPA Strategic Research Directions: The Agency has asked the Science Advisory Board for advice on the strategic directions for its research program for the next five to fifteen years. This activity complements the annual SAB review of EPA's research budget, and permits a more critical evaluation of research programs than is possible during the research budget review. It will also give EPA additional time to incorporate SAB advice into the longer term research planning process that informs each year's budget preparation activity. The Agency charge asks for advice on the alignment of EPA research and development program directions with the strategic priorities identified by EPA's operating programs and Regional Offices; coordination of research planning within ORD and across EPA; coordination of research planning with environmental science programs of other government agencies; and whether EPA research is positioned to provide critical scientific support to EPA and the nation on emerging issues. The SAB will discuss EPA research program directions with EPA representatives on October 4 and 5, 2007. Specific information on the structure and schedule for these discussions will be provided by the meeting agenda that will be available on the SAB Web site prior to the meeting (http://www.epa.gov/sab).

(c) Science in Emergency Response. The SAB is exploring the use of science in preparing for and responding to environmental disasters. The SAB held a meeting on this topic on December 12-14, 2006 during which non-EPA experts discussed their experiences with disaster preparedness and response (71 FR 67566). The SAB continued its discussions of science in emergency response during its June 19-20, 2007 meeting (see 72 FR 27308). The SAB is currently drafting advisory comments to the Administrator as a result of these discussions. Final discussions of those comments will be held during the SAB meeting on October 3-5, 2007. Specific times will be provided in the meeting agenda that will be placed on the SAB Web site prior to the meeting (http://www.epa.gov/sab). Additional information is available on the SAB Web Site for the December 2006 meeting at: http://www.epa.gov/sab/agendas.htm, and for the June 19-20, 2007 SAB meeting at: http://www.epa.gov/sab/07agendas/sab_06_19-20_07_agenda.pdf.

(d) SAB Quality Review of Review of EPA's Draft Evaluation of the Carcinogenicity of Ethylene Oxide: A Report of the U.S. EPA Science Advisory Board. The Chartered Science Advisory Board will conduct a quality review of the draft report of its Ethylene Oxide Review Panel on October 3-5, 2007. Specific times will be provided in the meeting agenda that will be placed on the SAB Web Site prior to the meeting (http://www.epa.gov/sab). EPA's Office of Research and Development (ORD) requested that the SAB review its draft document entitled Evaluation of the Carcinogenicity of Ethylene Oxide that was prepared by the National Center for Environmental Assessment (NCEA). In response to EPA's request, the SAB Staff Office formed the SAB Ethylene Oxide Review Panel. That Panel held several meetings to discuss the issue and has now completed its draft report to the EPA Administrator. Federal Register notices were published announcing each of the Ethylene Oxide Review Panel's meetings (see 71 FR 10500, 71 FR 66328, 72 FR 20538). Background on the Panel and this review is available on the SAB Web Site at: http://www.epa.gov/sab/panels/ethylene_oxide_rev_panel.htm.

Availability of Meeting Materials: Materials in support of this meeting will be placed on the SAB Web Site at http://www.epa.gov/sab in advance of this meeting.

Procedures for Providing Public Input: Interested members of the public may submit relevant written or oral information for the SAB to consider during the advisory process. Oral Statements: In general, individuals or groups requesting an oral presentation at a public meeting will be limited to five minutes per speaker, with no more than one hour for all speakers. Interested parties should contact Dr. Angela Nugent by mail at the EPA SAB Staff Office, (1400F), U.S. EPA, 1200 Pennsylvania Avenue, NW., Washington, DC 20460; by telephone at (202) 343-9981; by fax at (202) 233-0643; or by e-mail at: nugent.angela@epa.gov Mr. Thomas Miller, DFO, at the contact information provided above, by September 21, 2007, to be placed on the public speaker list for the October 3-5, 2007 meeting. A telephone conference line will be available for those portions of the meeting during which the SAB is conducting quality reviews of draft committee reports. Information on the call in procedures and numbers can be obtained by calling the EPA SAB Staff Office at (202) 343-9999. Written Statements: Written statements should be received in the SAB Staff Office by September 27, 2007, so that the information may be made available to the SAB for their consideration prior to this meeting. Written statements should be supplied in the following formats: one hard copy with original signature, and one electronic copy via e-mail to: nugent.angela@epa.gov and miller.tom@epa.gov (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or e-mail at miller.tom@epa.gov. To request accommodation of a disability, please contact Mr. Miller, preferably at least 10 days prior to the meeting, to give EPA as much time as possible to process your request.

Dated: August 24, 2007.
Anthony Maciorowski,
Deputy Director, EPA Science Advisory Board Staff Office.

[FR Doc. E7-17197 Filed 8-29-07; 8:45 am]

BILLING CODE 6560-50-P